ENVIRONMENTAL PROTECTION AGENCY

[FRL-7584-7]

Proposed Administrative Past Cost Settlement Under Section 122(h)(1) of the Comprehensive Environmental Response, Compensation and Liability Act; In the Matter of Getzen Musical Instruments Superfund Site, Elkhorn, WI

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Getzen Musical Instruments Site (“the Site”) in Elkhorn, Wisconsin, with two parties: John W. Dadmun and Harold M. Knowlton (“the settling parties”). The settlement requires the settling parties to pay $65,580.05 to the Hazardous Substance Superfund.

In exchange for their payments, the United States covenants not to sue or take administrative action pursuant to Section 107(a) of CERCLA, 42 U.S.C. 9607(a), to recover costs that the United States paid in connection with the Site through the effective date of the settlement. In addition, the settling parties are entitled to protection from contribution actions or claims as provided by Sections 113(f) and 122(h)(4) of CERCLA, 42 U.S.C. 9613(f) and 9622(h)(4), for response costs incurred by EPA at the Site through the effective date of the agreement.

For thirty (30) days after the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois, 60604.

DATES: Comments must be submitted on or before December 10, 2003.

ADDRESSES: The proposed settlement is available for public inspection at EPA's Record Center, 7th floor, 77 W. Jackson Blvd., Chicago, Illinois, 60604. A copy of the proposed settlement may be obtained from Connie Puchalski, Section Chief , U.S. EPA, Mail Code C-14J, 77 W. Jackson Blvd., Chicago, Illinois, 60604, telephone (312) 886-6719. Comments should reference the Getzen Musical Instruments Superfund Site, Elkhorn, Wisconsin, and EPA Docket No. V-W-04-C-763, and should be addressed to Connie Puchalski, Section Chief, U.S. EPA, Mail Code C-14J, 77 W. Jackson Blvd., Chicago, Illinois, 60604.

FOR FURTHER INFORMATION CONTACT: Connie Puchalski, Section Chief, U.S. EPA, Mail Code C-14J, 77 W. Jackson Blvd., Chicago, Illinois, 60604, telephone (312) 886-6719.

Authority: The Comprehensive Environmental Response, Compensation, and Liability Act of 1980, as amended, 42 U.S.C. 9601, et seq.

Dated: October 24, 2003.
William E. Muno,
Director, Superfund Division.

[FR Doc. 03-28214 Filed 11-7-03; 8:45 am]

BILLING CODE 6560-50-P